DEPARTMENT OF COMMERCE

Foreign-Trade Zones Board

[Docket 73-2008]

Foreign-Trade Zone 123—Denver, Colorado, Application for Expansion

An application has been submitted to the Foreign-Trade Zones Board (the Board) by the City and County of Denver, Colorado, grantee of Foreign-Trade Zone 123, requesting authority to expand its zone to include the jet fuel storage and distribution facilities (79 acres) of the Denver International Airport within the Denver Customs and Border Protection port of entry. The application was submitted pursuant to the provisions of the Foreign-Trade Zones Act, as amended (19 U.S.C. 81a-81u), and the regulations of the Board (15 CFR Part 400). It was formally filed on December 24, 2008.

FTZ 123 was approved by the Board on August 16, 1985 (Board Order 311, 50 FR 34729, 8/27/85) and expanded on April 10, 2007 (Board Order 1509, 72 FR 19879-19880, 4/20/07). The general-purpose zone currently consists of three sites in the Denver, Colorado area: Site 1: (6 acres, 200,000 sq. ft.) located at 11075 East 40th Avenue, Denver; Site 2: (7 acres, 116,000 sq. ft.) located at the South Air Cargo development area along East 75th Avenue within the Denver International Airport; and, Site 3: (766 acres) located within the Great Western Industrial Park bordered by Eastman Park Drive and County Road 23, Windsor.

The applicant is now requesting authority to expand the general- purpose zone to include the jet fuel storage and distribution facilities (79 acres) within the Denver International Airport. The new site will be designated as Site 4. The site is owned by the City and County of Denver and leased to Aircraft Service International Inc., who will be the operator.

No specific manufacturing requests are being made at this time. Such requests would be made to the Board on a case-by-case basis.In accordance with the Board's regulations, Claudia Hausler of the FTZ Staff is designated examiner to investigate the application and report to the Board.

Public comment is invited from interested parties. Submissions (original and 3 copies) shall be addressed to the Board's Executive Secretary at the address below. The closing period for their receipt is March 16, 2009. Rebuttal comments in response to material submitted during the foregoing period may be submitted during the subsequent 15-day period (to March 30, 2009).

A copy of the application and accompanying exhibits will be available for public inspection at each of the following locations:

U.S. Department of Commerce, Export Assistance Center, 1625 Broadway, Suite 680, Denver, CO 80202

Office of the Executive Secretary, Foreign-Trade Zones Board, U.S. Department of Commerce, Room 2111, 1401 Constitution Avenue, NW, Washington, DC 20230

For further information contact Claudia Hausler at Claudia_Hausler@ita.doc.gov or (202) 482-1379.

Dated: December 29, 2008.
Andrew McGilvray,
Executive Secretary.

[FR Doc. E9-621 Filed 1-13-09; 8:45 am]

BILLING CODE 3510-DS-S